ENVIRONMENTAL PROTECTION AGENCY

[FRL OP-OFA-158]

Environmental Impact Statements; Notice of Availability

Responsible Agency: Office of Federal Activities, General Information 202-564-5632 or https://www.epa.gov/nepa.

Weekly Receipt of Environmental Impact Statements (EIS)

Filed December 16, 2024 10 a.m. EST Through December 20, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240241, Final, FHWA, WI, Interstate 39/90/94 Corridor, Contact: Lisa Hemesath 608-829-7503.

Under 23 U.S.C. 139(n)(2), FHWA has issued a single document that consists of a final environmental impact statement and record of decision. Therefore, the 30-day wait/review period under NEPA does not apply to this action.

EIS No. 20240242, Final, USAF, FL, Expansion of Childcare Services North of Eglin Test and Training Complex, Review Period Ends: 01/27/2025, Contact: Nick Post 210-925-3516.

EIS No. 20240243, Final, FERC, TN, Ridgeline Expansion Project, Review Period Ends: 01/27/2025, Contact: Office of External Affairs 866-208-3372.

Amended Notice:

EIS No. 20240214, Draft Supplement, USFWS, AK, Potential Land Exchange Involving Izembek National Wildlife Refuge Lands, Comment Period Ends: 02/13/2025, Contact: Bobbie Jo Skibo 907-441-1539.

Revision to FR Notice Published 11/15/2024; Extending the Comment Period from 12/30/2024 to 02/13/2025.

Dated: December 20, 2024.
Mark Austin,
Acting Director, NEPA Compliance Division, Office of Federal Activities.

[FR Doc. 2024-30976 Filed 12-26-24; 8:45 am]

BILLING CODE 6560-50-P